ENVIRONMENTAL PROTECTION AGENCY

40 CFR Part 300

[EPA-HQ-SFUND-1983-0002; FRL-9451-7]

National Oil and Hazardous Substances Pollution Contingency Plan; National Priorities List: Deletion of the Sayreville Landfill Superfund Site

AGENCY: Environmental Protection Agency (EPA).

ACTION: Direct final rule.

SUMMARY: EPA, Region 2, is publishing a direct final Notice of Deletion of the Sayreville Landfill Superfund Site (Site), located in the Borough of Sayreville, Middlesex County, New Jersey, from the National Priorities List (NPL). The NPL, promulgated pursuant to section 105 of the Comprehensive Environmental Response, Compensation, and Liability Act (CERCLA) of 1980, as amended, is an appendix of the National Oil and Hazardous Substances Pollution Contingency Plan (NCP). This direct final Notice of Deletion is being published by EPA with the concurrence of the State of New Jersey, through the Department of Environmental Protection (NJDEP). EPA and NJDEP have determined that all appropriate remedial actions under CERCLA, other than operation, maintenance and five-year reviews, have been completed. However, this deletion does not preclude future actions under Superfund.

DATES: This direct final deletion will be effective September 29, 2011 unless EPA receives significant adverse comments by September 14, 2011. If significant adverse comments are received, EPA will publish a timely withdrawal of this direct final deletion in the Federal Register, informing the public that the deletion will not take effect.

ADDRESSES: Submit your comments, identified by Docket ID no. EPA-HQ-SFUND-1983-0002, by one of the following methods:

• http://www.regulations.gov. Follow the on-line instructions for submitting comments.

• E-mail: salkie.diane@epa.gov.

• Fax: 212-637-4393.

• Mail: To the attention of Diane Salkie, Remedial Project Manager, Emergency and Remedial Response Division, U.S. Environmental Protection Agency, Region 2, 290 Broadway, 19th Floor, New York, New York 10007-1866.

• Hand Delivery: Superfund Records Center, 290 Broadway, 18th Floor, New York, NY 10007-1866 (telephone: 212-637-4308). Such deliveries are only accepted during the Docket's normal hours of operation (Monday to Friday from 9 a.m. to 5 p.m.).

Special arrangements should be made for deliveries of boxed information.

Instructions: Direct your comments to Docket ID no. EPA-HQ-SFUND-1983-0002; EPA's policy is that all comments received will be included in the Docket without change and may be made available online at http://www.regulations.gov, including any personal information provided, unless the comment includes information claimed to be Confidential Business Information (CBI) or other information whose disclosure is restricted by statute. Do not submit information that you consider CBI or otherwise protected through http://www.regulations.gov or e-mail. The http://www.regulations.gov Web site is an “anonymous access” system, which means EPA will not know your identity or contact information unless you provide it in the body of your comments. If you send e-mail comments directly to EPA without going through http://www.regulations.gov, your e-mail address will be automatically captured and included as part of the comment that is placed in the public docket and made available on the Internet. If you submit electronic comments, EPA recommends that you include your name and other contact information in the body of your comment and with any disk or CD-ROM that you submit. If EPA cannot read your comment due to technical difficulties and cannot contact you for clarification, EPA may not be able to consider your comments. Electronic files should avoid the use of special characters, any form of encryption, and be free of any defects or viruses.

Docket: All documents in the docket are listed in the http://www.regulations.gov index. Although listed in the index, some information is not publicly available, e.g., CBI or other information whose disclosure is restricted by statue. Certain other material, such as copyrighted material, will be publicly available only in the hard copy. Publicly available docket materials can be available either electronically in http://www.regulations.gov or in hard copy at:

U.S. Environmental Protection Agency, Region 2, Superfund Records Center, 290 Broadway, 18th Floor, New York, NY 10007-1866, Phone: 212-637-4308, Hours: Monday to Friday from 9 a.m. to 5 p.m. and New Jersey Department of Environmental Protection, 401 East State Street, Trenton, New Jersey 08625-0410, Phone: 609-777-3373.

FOR FURTHER INFORMATION CONTACT: Diane Salkie, Remedial Project Manager, Emergency and Remedial Response Division, U.S. Environmental Protection Agency, Region 2, 290 Broadway, 19th Floor, New York, New York 10007-1866, telephone at (212) 637-4370; fax at (212) 637-4393; or e-mail at: salkie.diane@epa.gov.

SUPPLEMENTARY INFORMATION:

Table of Contents

I. Introduction

II. NPL Deletion Criteria

III. Deletion Procedures

IV. Basis for Site Deletion

V. Deletion Action

I. Introduction

EPA Region 2 is publishing this direct final Notice of Deletion of the Sayreville Landfill Superfund Site (Site) from the National Priorities List (NPL). The NPL constitutes Appendix B of 40 CFR part 300, which is the National Oil and Hazardous Substances Pollution Contingency Plan (NCP), which EPA promulgated pursuant to section 105 of the Comprehensive Environmental Response, Compensation and Liability Act (CERCLA) of 1980, as amended. EPA maintains the NPL as the list of sites that appear to present a significant risk to public health, welfare, or the environment. Sites on the NPL may be the subject of remedial actions financed by the Hazardous Substance Superfund (Fund). As described in 300.425(e) (3) of the NCP, a site deleted from the NPL remains eligible for remedial actions if conditions at the site warrant such action.

Because EPA considers this action to be noncontroversial and routine, this action will be effective September 29, 2011 unless EPA receives significant adverse comments by September 14, 2011. Along with this direct final Notice of Deletion, EPA is co-publishing the Notice of Intent to Delete in the “Proposed Rules” section of today's Federal Register. If adverse comments are received within the 30-day public comment period on this deletion action, EPA will publish a timely withdrawal of this direct final Notice of Deletion before the effective date of the deletion and the deletion will not take effect. EPA will, as appropriate, prepare a response to comments and continue with the deletion process on the basis of the Notice of Intent to Delete and the comments already received. There will be no additional opportunity to comment.

Section II of this document explains the criteria for deleting sites from the NPL. Section III discusses procedures that EPA is using for this action. Section IV discusses the Sayreville Landfill Superfund Site and demonstrates how it meets the deletion criteria. Section V discusses EPA's action to delete the Site from the NPL unless significant adverse comments are received during the public comment period.

II. NPL Deletion Criteria

The NCP establishes the criteria that EPA uses to delete sites from the NPL. In accordance with 40 CFR 300.425(e), sites may be deleted from the NPL where no further response is appropriate. In making such a determination pursuant to 40 CFR 300.425(e), EPA will consider, in consultation with the state, whether any of the following criteria have been met:

i. Responsible parties or other parties have implemented all appropriate response actions required;

ii. all appropriate Fund-financed responses under CERCLA have been implemented, and no further action by responsible parties is appropriate; or

iii. the remedial investigation has shown that the release poses no significant threat to public health or the environment and, therefore, implementing remedial measures is not appropriate.

Pursuant to CERCLA section 121(c) and the NCP, EPA conducts five-year reviews to ensure the continued protectiveness of remedial actions where hazardous substances, pollutants, or contaminants remain at the site above levels that allow for unlimited use and unrestricted exposure. EPA conducts such five-year reviews even if a site is deleted from the NPL. EPA may initiate further action to ensure continued protectiveness at a deleted site if new information becomes available that indicates it is appropriate. Whenever there is a significant release from a site deleted from the NPL, the deleted site may be restored to the NPL without application of the hazard ranking system.

III. Deletion Procedures

The following procedures apply to deletion of this Site.

(1) EPA consulted with the state of New Jersey prior to developing this direct final Notice of Deletion and the Notice of Intent to Delete co-published today in the “Proposed Rules” section of the Federal Register.

(2) EPA has provided the state 30 working days for review of this notice and the parallel Notice of Intent to Delete prior to their publication today, and the state, through the New Jersey Department of Environmental Protection, has concurred on the deletion of the Site from the NPL.

(3) Concurrently with the publication of this direct final Notice of Deletion, a notice of the availability of the parallel Notice of Intent to Delete is being published in a major local newspaper, the Home News Tribune. The newspaper notice announces the 30-day public comment period concerning the Notice of Intent to Delete the Site from the NPL.

(4) The EPA placed copies of documents supporting the proposed deletion in the deletion docket and made these items available for public inspection and copying at the Site information repositories identified above.

(5) If adverse comments are received within the 30-day public comment period on this deletion action, EPA will publish a timely notice of withdrawal of this direct final Notice of Deletion before its effective date and will prepare a response to comments and continue with the deletion process on the basis of the Notice of Intent to Delete and the comments already received.

Deletion of a site from the NPL does not itself create, alter, or revoke any individual's rights or obligations. Deletion of a site from the NPL does not in any way alter EPA's right to take enforcement actions, as appropriate. The NPL is designed primarily for informational purposes and to assist EPA management. Section 300.425(e) (3) of the NCP states that the deletion of a site from the NPL does not preclude eligibility for future response actions, should future conditions warrant such actions.

IV. Basis for Site Deletion

The following summary provides the Agency's rationale for deleting this Site from the NPL.

Site Background and History

The Sayreville Landfill Superfund site (CERCLIS ID: NJD980505754) covers approximately 30 acres and is located in a moderately industrial section of the Borough of Sayreville in Middlesex County, New Jersey, approximately one mile south of Route 535 and one and a half miles north of the Bordentown-Amboy Turnpike. Several small industries surround the Site to the north, east and south. The South River, which flows north, is a major tributary to the Raritan River and forms the western border of the Site. The river waters adjacent to the Site are designated for both primary and secondary contact recreation. Pond Creek forms a portion of the Site boundary to the north and northwest and Duck Creek on the south and southwest. These waters are classified by the NJDEP as fresh water Non-Trout. The Site is partially located within the tidal wetlands of the river with drainage swales along the western part of the property.

Land and Resource—The landfill property encompasses approximately 30 acres of land, of which, approximately 20 acres were used for waste fill and contains buried wastes. The waste fill area rises above the natural grade by approximately eight to ten feet, is covered with low-lying vegetation and marsh grasses, and is bordered by small surface streams. The eastern section of the Site, near Jernee Mill Road, contains clusters of hardwood trees. The nearest residential developments are located ½ mile to the north and ¼ mile to the west (across the South River, which is the western border of the landfill).

History of Contamination—From 1971 to August 1977, the Sayreville Landfill was operated by the Borough of Sayreville as a licensed municipal landfill which accepted primarily municipal solid wastes and some light industrial wastes. Reports from previous investigations indicate that hazardous wastes were disposed of at the Site between 1974 and 1977 when landfill operations ceased. In addition, it is believed that additional quantities of hazardous wastes were dumped at the Site after 1977.

Initial Response—In 1980, a landfill closure plan, approved by the NJDEP, was implemented by the Borough. Subsequent Site inspections, however, revealed that the closure had not been properly completed. The existing vegetative growth over the landfill had eroded in many areas and failed to significantly impede the release of fugitive dust or landfill gas emissions. In 1981, the NJDEP issued an order to the Borough of Sayreville to cease violations regarding maintenance of the landfill.

Basis for Taking Action—In April 1981, the New Jersey Division of Criminal Justice performed a magnetometer survey on a portion of the landfill alleged to contain buried hazardous waste materials. Based on the survey results, an estimated 30 drums were excavated from the western peninsula of the waste-fill area. Analytical results detected various hazardous compounds including pentachlorophenol, para-ethyl toluene, chloroform, methyl bromide as well as pesticides and acids. In August 1982, EPA visited the Site to gather information for ranking it on the Federal Superfund National Priorities List (NPL). Based on the data collected from this and previous investigations, the Site was proposed for the NPL on December 30, 1982 (47 FR 58476) and placed final on the NPL on September 8, 1983 (47 FR 40674).

Redevelopment—During development of the 1998 OU2 ROD, the owner of the property indicated its desire, after proper landfill closure to reuse the property for recreational/commercial purposes. In 1998, NJDEP agreed that recreational use of the property would be appropriate provided that development of the landfill did not breach the landfill cap, and that an additional monitoring program would be required to ensure the integrity of the landfill cap. Reuse/redevelopment is further addressed in the August 2010 deed restriction and the June 14, 2007 Classification Exception Area (CEA).

Remedial Investigation and Feasibility Study (RI/FS)

In February 1986, NJDEP engaged B&V Waste Science and Technology, Inc. (BVWST) to begin a remedial investigation and feasibility study (RI/FS) at the Site. The Phase I field work was conducted between November 1986 and March 1987 and included the following activities: installation of 21 groundwater monitoring wells and three piezometer wells; collection of groundwater samples from on-site monitoring wells; collection of surface water and stream sediment samples from 11 locations surrounding the Site; excavation of five test pits and collection of soil samples; and air monitoring at 52 locations. Phase II of the RI began in October 1989 and was intended to supplement and verify the findings and analytical results from Phase I of the investigation. Phase II included the following activities: collection of groundwater samples from 21 on-site monitoring wells; collection of three surface water and six sediment samples; excavation of 11 test pits; and collection of 12 drum contents samples. Based on the results of the RI, BVWST completed the FS report which identified and evaluated a number of remedial alternatives.

Selected Remedy

On September 28, 1990, EPA issued a Record of Decision selecting a remedial action plan for the landfill (OU1). The remedial action objectives for the OU1 ROD include the following: prevent direct contact with landfill soils and buried drums and minimize surface water runoff which contributes to landfill erosion; minimize the migration of soil and drum content contaminants into groundwater, surrounding surface waters and stream sediments; and identify potential releases of contaminants to groundwater, surface water and sediments. The major components of the selected remedy include:

• Fencing of the Site to restrict access and the establishment of deed restrictions;

• Capping of the wastefill with a NJDEP solid waste cap to prevent infiltration and any potential releases of hazardous waste to groundwater and surface waters;

• Construction of an access road and storm water and passive gas management systems;

• Removal and off-site thermal treatment of buried drums containing hazardous wastes;

• Intensive groundwater, surface waters, stream sediments and air sampling and monitoring; and

• The installation of additional groundwater monitor wells within the deep Farrington aquifer.

In a supplemental investigation, a third round of water sampling was conducted on the 21 wells in addition to installing two more deep wells in the deep Farrington Sand aquifer.

These successive sampling events indicated that the contaminant concentrations had declined over time. The deep Farrington Sand aquifer was determined to have no contaminants above the NJ Ground-Water Quality Standards. On June 30, 1997, EPA issued an Explanation of Significant Differences (OU1 ESD) which modified the original cleanup selected in the 1990 OU1 ROD. The OU1 ESD documented that EPA and NJDEP, after further review of the circumstances surrounding the Site, including additional monitoring data, determined that installation of an additional deep well into the Farrington Sand aquifer was not necessary.

Based on the findings of the various investigations, the fact that there are no known users of the perched and shallow aquifers and that ground-water contaminant concentrations appeared to be decreasing, on September 23, 1998, the NJDEP, in consultation with EPA, issued a ROD for off-site sediments, surface water, and groundwater (OU2). The OU2 ROD selected as the remedy, “No Further Action” for surface water and sediments, and “No Further Action with Monitoring” for groundwater. The OU2 ROD also called for:

• Monitoring of the wells surrounding the landfill to verify the effectiveness of the landfill cap and to ensure that the landfill is not contaminating the groundwater.

• Implementation of a Deed Notice to prevent any intrusive activities into the landfill cap.

• Implementation of a Classification Exception Area (CEA) for the shallow aquifer in the vicinity of the Site.

Response Actions

Source Control—The final remedial design (RD) was approved in February 1996.

Actual on-site construction began on June 30, 1997, and was substantially completed by July 1998. A Preliminary Closeout Report was issued by EPA on September 28, 1998. O'Brien and Gere Engineers certified final construction completion in June 1999. EPA approved the Remedial Action Report on September 30, 1999. The Remedial Action Report contains detailed information on the construction and demonstrates that the remedy is operational and functional.

The PRPs selected IEM Sealand/ThermoRetec as the prime construction contractor on May 5, 1997 and O'Brien and Gere was selected as the oversight contractor. Major work activities included: site clearing and grubbing, waste relocation from the northern peninsula to the main landfill; waste removal from the demolition area and perimeter areas and relocation to the main landfill; regrading of the main landfill cap area; construction of the landfill cap system; placement of topsoil and seeding; gas vent installation; monitoring well abandonment; retrofitting of monitoring wells to accommodate the final grade; drum removal; and wetlands mitigation.

The perimeter of the Site was cleared and installation of the perimeter soil and erosion control measures was completed. Excavation of waste from the northern landfill proceeded with excavation, hauling, placement and compaction of materials to the main landfill area. Upon completion of excavation, confirmation soil samples were collected to ensure cleanup levels were attained. Construction of the cap system included a riprap channel around the perimeter of the cap to allow drainage. The cap consists of a six-inch sand bedding layer with geo-membrane liner placed on the sand. On top of the liner, a geo-net drainage system was installed. The next layer consists of 18-inch embankment material covered with six inches of topsoil. Eighteen drums of solid waste and 17 drums of liquid waste were transported off site by Waste Minimization Sciences, Inc. on April 30, 1998 for disposal by incineration. Two freshwater wetland mitigation areas were developed at the northeast and southeast corners of the main landfill. Three inspections were made following the creation of the wetlands mitigation areas to document types and amounts of vegetation and to determine survival rates of the plant species.

Fencing was installed extending several hundred feet along Jernee Mill Road in both directions from the entrance gate. At both ends, the fence then turns westward towards the South River and proceeds approximately halfway to the River, preventing access to the landfill Site from areas other than wetlands. “No Trespassing” signs have also been posted around the perimeter of the landfill Site. The deed notice was recorded in Middlesex County on August 10, 2010. In March 2003, in accordance with the OU2 ROD requirement for the establishment of a State Classification Exception Area (CEA), municipal engineers for the Borough of Sayreville, O'Brien and Gere Engineers, provided NJDEP with information that was placed in the State's CEA database which identifies what areas of the Site have ground-water contamination in excess of New Jersey Ground-Water Quality Standards. The CEA was established by NJDEP on June 14, 2007.

Cleanup Goals

After the composite cap system was installed, groundwater monitoring was conducted semi-annually from August 1991 until August 2004 and continued annually until November 2007. From 2008-2010 a review of groundwater data and on-site gas monitoring was performed and a revision to the O&M plan was submitted to NJDEP. Over the two year period of 2008-2010, DEP approved an exemption from conducting groundwater sampling, however, annual reports for inspections and gas monitoring continued during this period. The next round of groundwater samples were collected in 2010.

According to the Post-Closure O&M Plan groundwater is sampled from ten monitoring wells in three water bearing zones: perched, shallow and deep. The applicable or relevant and appropriate requirements (ARARs) for the groundwater at the Site are the EPA Safe Drinking Water Act Maximum Contaminant Levels (MCLs) and New Jersey Department of Environmental Protection Ground Water Quality Standards (GWQSs). Volatile organic compounds (VOCs) benzene, chlorobenzene and chloroethene, have historically been the only VOCs above the ARARs in the perched or shallow zone wells. The levels have demonstrated significant decreases in concentration in the last few years. Historically, one semi-volatile organic compound (SVOC) was detected in the shallow and deep zones but is not considered Site related and is below the ARARs. Inorganic compounds found throughout the Site are arsenic, aluminum, cadmium, chromium, iron, lead, nickel, manganese, sodium and thallium. Aluminum, iron, manganese and sodium reflect regional background conditions and are not thought to be Site related. Inorganic concentrations have fluctuated over the fourteen rounds of sampling, but have shown a decrease and stability since 2006.

Perched Zone—Three wells located in the perched water bearing zone, MW-8, MW-11 and P-5 are within the boundaries of the landfill where wastefill was placed. In 1989, during Phase II of the Remedial Investigation the levels of chloroethane, methylene chloride, benzene, antimony and beryllium were above the ARARs in groundwater from wells MW-8 and MW-11. Piezometer well P-5 was installed at a later time and showed elevated results of the same compounds in addition to chlorobenzene, cadmium, chromium, nickel and sodium. Lead in well P-5 peaked at a level of 100 μg/L in 2001 but has since declined to 6.7 μg/L, below the MCL of 15 µg/L in 2010. The 2010 sampling results demonstrate that methylene chloride, antimony, beryllium, chromium and nickel are either non-detect or below the ARARs in the three wells. Elevated iron, manganese and sodium reflect regional background conditions. Benzene, chlorobenzene and chloroethane have decreased significantly, but remain slightly elevated in the three monitoring wells located within the former wastefill disposal area. However, the groundwater meets ARARs in the monitoring well located at the downgradient boundary of the waste management area.

Shallow Zone—Under the Post-Closure O&M Plan there are currently four wells in the shallow water bearing zone being monitored. Wells MW-5S and MW-6S are located within the landfill area on the west side of the landfill and two wells are hydraulically upgradient wells: P-1 to the north of the landfill and MW-3 to the east of the landfill. In the western wells antimony, beryllium, methylene chloride and acetone concentrations began above the ARARs and showed non-detect or below ARARs in 2010. Arsenic also remains above the GWQS in both on site wells, however below the MCLs in MW-6S. The hydraulically upgradient wells showed arsenic, chromium, nickel, methylene chloride and acetone at levels above the ARARs historically and non-detect in 2010. Piezometer well P-1 initially showed benzene at a level of 15 μg/L and has fluctuated from non-detect to the current level of 1.3 μg/L slightly above the NJDEP GWQS of 1 μg/L and below the MCL of 5 μg/L. Since P-1 is upgradient, the contamination most likely originates from another source.

Deep Zone—Three monitoring wells are in the deep water bearing zone or the Farrington Aquifer. MW-1D and MW-14 are both upgradient and north of the landfill while MW15 is located south of the landfill. Historically, acetone, methylene chloride, benzene and 1,2-dichloroethane were above the ARARs in the upgradient wells, but have declined to the current result of non-detect. No organic compounds were above ARARs in MW-15. Lead in well MW-1D peaked at 130 μg/L in 2004 but has since declined to 10 μg/L, below the MCL of 15 μg/L. Elevated levels of aluminum, iron, manganese and sodium were found in all three deep wells, however, reflect regional background conditions.

Summary—Although the on-site wells located in the waste management area and upgradient of the Site remain contaminated with slightly elevated levels of organic contaminants of concern, the downgradient well shows levels below the MCLs. The only inorganic contaminants of concern still present in the 2010 results are lead and arsenic. The lead was found in P-5 (perched well) located on site and MW-1D (deep well), upgradient of the site. Both results are above the GWQS but below the MCLs. Although arsenic remains above the GWQS in MW-6S (shallow well), it is below the MCL and has decreased since the earlier sampling events. Arsenic concentrations have fluctuated throughout the sampling of MW-5S, and with the exception of the 2010 sampling, had been below the MCLs.

Operation and Maintenance

In 1986 and 1987, investigations indicated that gaseous emissions of volatile compounds at the Site were almost exclusively methane. To control the emissions, 22 passive vents were installed within the landfill. In 1999, 13 soil gas monitoring probes were installed around the perimeter of the landfill. However, these probes failed and were replaced by the current monitoring system in 2003. The gas has been monitored for methane, oxygen, carbon dioxide and nitrogen quarterly from the new probes since 2004. Methane has been consistently elevated in soil gas probe P-6A located at the edge of the Site in the wetlands area. All other probes have shown methane at a non-detect level or have decreased to non-detect. In 2008, a forensic analysis of methane from P-6A and landfill vent LV-15 was conducted and determined that the gas is consistent with a biogenically-derived gas from landfill activities and not from the natural wetlands. Probe P-6A is located near monitoring well MW-6S which has not shown any volatile organic compound contamination for several years. There are no health and safety concerns due to the absence of confined space and distance to off-site receptors.

Detailed “Sampling and Monitoring Reports” were submitted by O'Brien and Gere Engineers to the PRP Committee members, NJDEP, and EPA on a semi-annual basis. These reports included both maintenance and monitoring activities and identified any problems and corrective measures. Routine O&M activities are performed by O'Brien and Gere Engineers by contract with the PRP Committee at the Site in accordance with the Operation and Maintenance Manual which was approved by NJDEP in November 1995.

Ten ground-water monitoring wells (three wells in the perched aquifer, four wells in the shallow aquifer, one well in the water bearing Woodbridge/South Amboy Clay, and two wells in the deep aquifer) were sampled semi-annually over a period of five years. The final semi-annual report was submitted in January 2005. Since then, monitoring has been conducted on an annual basis until 2007. The latest data provided to EPA was obtained from samples taken in November 2007 and December 2010. Landfill gas is monitored using thirteen soil gas monitoring probes.

In 2011, NJDEP approved the revised O&M Plan with the following modifications to the sampling and analysis plan:

(1) A reduction in the groundwater monitoring frequency to one round per five years.

(2) Monitoring of the deep water bearing zone (wells MW-1D, MW-14, and MW-15) is discontinued since it is not part of the CEA, and investigations and monitoring have demonstrated that no contamination related to the landfill has impacted the deep water zone.

(3) Semi-volatile organic contaminants are not detected in the groundwater and were removed from the list of target analytes.

(4) Based on the CEA constituents and recent analytical results, the list of target organic analytes includes the following volatile organic contaminants: benzene, chlorobenzene, chloroethane

(5) Based on the CEA constituents and recent analytical results, the list of target inorganic analytes was reduced to the following: arsenic, chromium, lead, nickel and thallium; all other detected inorganic constituents (iron, manganese, and sodium) that exceed the GWQS reflect regional background conditions

(6) A low flow purging and sampling methodology in general conformance with the NJDEP Field Sampling Procedures Manual (2005) should continue to be used to obtain a more accurate representation of actual groundwater quality in the monitored water bearing zones.

Following completion of the remedial construction, Site inspections were performed monthly for two years and then quarterly thereafter. The findings are recorded in the inspection and maintenance logs provided in Appendix A of the “Sampling and Monitoring Reports”. The contractor cuts the grass on a monthly basis as needed, and performs any necessary repairs to the liners and/or the soil gas monitoring probes. Damage to the surface soil above the cap is also inspected and repaired as necessary. The contractor is also responsible for maintaining the integrity of the fence.

Site inspections are conducted quarterly and reported to EPA and DEP annually in the form of the Post-Closure Inspection and Maintenance Form along with any necessary support information. The site inspection investigates the conditions of the fence, security signs, access road and gates as well as the state of the landfill cap, vegetation and drainage. The 2010 Deed Notice places restrictions on the Site so that no alteration, improvement or disturbance of the cap, or the landfill materials can take place without prior approval from NJDEP.

Five-Year Review

Two Five-Year Reviews have been conducted at the Site, the first in 2002, and the second in 2007. The implemented actions (OU-1 and OU-2) taken at the Sayreville Landfill Superfund Site were found to be protective of human health and the environment in the short-term and that in order for the remedy to be protective in the long-term, the final institutional controls needed to be implemented. The deed notice was recorded in Middlesex County on August 10, 2010. Currently, there are no exposure pathways that could result in unacceptable risks and none are expected as long as the Site use does not change and the engineered and access controls currently in place continue to be properly operated, monitored, and maintained. In addition, the deed notice has been recorded restricting land use and the CEA is in place to restrict groundwater use providing for long-term protectiveness of human health and the environment. The next five-year review will be completed by June 2012.

Community Involvement

Public participation activities for this Site have been satisfied as required in CERCLA sections 113(k) and 117, 42 U.S.C. 9613 (k) and 9617. Throughout the removal and remedial process, EPA and the NJDEP have kept the public informed of the activities being conducted at the Site by way of public meetings, progress fact sheets, and the announcement through local newspaper advertisement on the availability of documents such as the RI/FS, Risk Assessment, ROD, Proposed Plan and Five-Year Reviews. Notices associated with these community relations activities were also mailed out to the area residents and other concerned parties on the mailing list for the Site.

Determination That the Site Meets the Criteria for Deletion From the NCP

The NCP specifies that EPA may delete a site from the NPL if “all appropriate Fund-financed response under CERCLA has been implemented, and no further response action by responsible parties is appropriate” as stated in 40 CFR 300.425(e) (1) (ii). EPA, with the concurrence from the State of New Jersey, through NJDEP, dated July 27, 2011, believes that this criterion for deletion has been met. Consequently, EPA is deleting this Site from the NPL. Documents supporting this action are available in the Site files.

The groundwater meets applicable or relevant and appropriate requirements (ARARs) at all monitoring wells located at the downgradient boundary of the waste management area. The downgradient wells outside the boundary of the landfill were removed from the sampling plan based on had multiple years of sampling results with non-detect for the site contaminants of concern.

The deed notice was recorded in Middlesex County on August 10, 2010. Currently, there are no exposure pathways that could result in unacceptable risks and none are expected as long as the Site engineered and access controls currently in place continue to be properly operated, monitored, and maintained. In addition, the deed notice has been recorded restricting use and providing for long-term protectiveness of human health and the environment.

In March 2003, in accordance with the September 23, 1998 Record of Decision requirement for the establishment of a State Classification Exception Area (CEA), municipal engineers for the Borough of Sayreville, O'Brien and Gere Engineers, provided NJDEP with information that was placed in the State's CEA database which identifies what areas of the Site have ground-water contamination in excess of New Jersey Ground-Water Quality Standards. The CEA was established by NJDEP on June 14, 2007.

V. Deletion Action

EPA, with the concurrence of the State of New Jersey, has determined that all appropriate Fund-financed responses under CERCLA have been implemented, other than operation, maintenance and five-year reviews, and no further action by responsible parties is appropriate. Therefore, EPA is deleting the Site from the NPL.

Because EPA considers this action to be noncontroversial and routine, EPA is deleting the Site without prior publication. This action will be effective September 29, 2011 unless EPA receives adverse comments by September 14, 2011. If adverse comments are received within the 30-day public comment period of this action, EPA will publish a timely withdrawal of this direct final Notice of Deletion before the effective date of the deletion and the deletion will not take effect. EPA will, if appropriate, prepare a response to comments and continue with the deletion process on the basis of the Notice of Intent to Delete and the comments received. In such a case, there will be no additional opportunity to comment.

List of Subjects in 40 CFR Part 300

Environmental protection, Air pollution control, Chemicals, Hazardous waste, Hazardous substances, Intergovernmental relations, Penalties, Reporting and recordkeeping requirements, Superfund, Water pollution control, Water supply.

Dated: August 4, 2011.
Judith Enck,
Regional Administrator, U.S. EPA Region 2.

For the reasons set out in the preamble Part 300 Title 40 of Chapter I of the Code of Federal Regulations is amended as follows:

PART 300—[AMENDED]

1. The authority citation for part 300 continues to read as follows:

Authority: 33 U.S.C. 1321(c)(2); 42 U.S.C. 9601-9657; E.O. 12777, 56 FR 54757, 3 CFR, 1991 Comp., p. 351; E.O.12580, 52 FR 2923, 3 CFR, 1987 Comp., p. 193.

Appendix B to Part 300—[Amended]

2. Table 1 of Appendix B to part 300 is amended by removing the entry for “NJ Sayreville Landfill, Sayreville”.

[FR Doc. 2011-20742 Filed 8-12-11; 8:45 am]

BILLING CODE 6560-50-P